DEPARTMENT OF COMMERCE

International Trade Administration

Initiation of Antidumping and Countervailing Duty Administrative Reviews and Requests for Revocations in Part

AGENCY: Import Administration, International Trade Administration, Department of Commerce.

SUMMARY: The Department of Commerce (“the Department”) has received requests to conduct administrative reviews of various antidumping and countervailing duty orders and findings with August anniversary dates. In accordance with the Department's regulations, we are initiating those administrative reviews. The Department also received requests to revoke three antidumping duty orders in part.

DATES: Effective Date: October 3, 2011.

FOR FURTHER INFORMATION CONTACT: Brenda Waters, Office of AD/CVD Operations, Customs Unit, Import Administration, International Trade Administration, U.S. Department of Commerce, 14th Street and Constitution Avenue, NW., Washington, DC 20230, telephone: (202) 482-4735.

SUPPLEMENTARY INFORMATION:

Background

The Department has received timely requests, in accordance with 19 CFR 351.213(b), for administrative reviews of various antidumping and countervailing duty orders and findings with August anniversary dates. The Department also received timely requests to revoke in part the antidumping duty orders on Certain Corrosion-Resistant Carbon Steel Flat Products from the Republic of Korea for one exporter, on Light-Walled Rectangular Pipe and Tube from Mexico for one exporter, and on Certain Frozen Fish Fillets from the Socialist Republic of Vietnam with respect to three exporters.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) Identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews:

In accordance with 19 CFR 351.221(c)(1)(i), we are initiating administrative reviews of the following antidumping and countervailing duty orders and findings. We intend to issue the final results of these reviews not later than August 31, 2012.

| Period to be reviewed
Antidumping Duty Proceedings
Italy: Certain Pasta,³ A-475-818 | 7/1/10-6/30/11
Industria Alimentare Colavita, S.p.A.
Japan: Tin Mill Products, A-588-854 | 8/1/10-7/31/11
JFE Steel Corporation
Kawasaki Steel Corporation
Nippon Steel Corporation
NKK Corporation
Toyo Kohan Co., Ltd.
Mexico: Light-Walled Rectangular Pipe and Tube, A-201-836 | 8/1/10-7/31/11
Maquilacero S.A. de C.V.
Regiomontana de Perfiles y Tubos S.A. de C.V.
Republic of Korea: Corrosion-Resistant Carbon Steel Flat Products, A-580-816 | 8/1/10-7/31/11
Dongbu Steel Co., Ltd.
Dongkuk Industries Co., Ltd.
Haewon MSC Co., Ltd.
Hyundai HYSCO
LG Hausys, Ltd.
LG Chem, Ltd.
Pohang Iron and Steel Co., Ltd./Pohang Coated Steel Co., Ltd.
Union Steel Manufacturing Co., Ltd.
Romania: Certain Small Diameter Carbon and Alloy Seamless Standard, Line and Pressure Pipe, A-485-805 | 8/1/10-7/31/11
ArcelorMittal Tubular Products Roman S.A.
Socialist Republic of Vietnam: Certain Frozen Fish Fillets,⁴ A-552-801 | 8/1/10-7/31/11
An Giang Agriculture and Foods Import-Export Joint Stock Company
An Giang Fisheries Import and Export Joint Stock Company
An Phu Seafood Corporation (also known as ASeafood)
Anvifish Joint Stock Company
Anvifish Co., Ltd.
Asia Commerce Fisheries Joint Stock Company (also known as Anvifish JSC)
Bien Dong Seafood Co., Ltd.
Binh An Seafood Joint Stock Company
Cadovimex II Seafood Import-Export and Processing Joint Stock Company (Cadovimex II)
Cantho Import-Export Seafood Joint Stock Company (CASEAMEX)
CUU Long Fish Joint Stock Company (aka CL-Fish)
DOCIFISH Corporation
East Sea Seafoods Limited Liability Company (formerly known as East Sea Seafoods Joint Venture Co., Ltd.)
East Sea Seafoods Joint Venture Co., Ltd.
East Sea Seafoods LLC
GODACO Seafood Joint Stock Company
Hiep Thanh Seafood Joint Stock Company
Hung Vuong Seafood Joint Stock Company
International Development & Investment Corporation (also known as IDI)
Nam Viet Company Limited (aka NAVICO)
Nam Viet Corporation
NTSF Seafoods Joint Stock Company (also known as NTSF)
QVD Food Company, Ltd.
QVD Dong Thap Food Co., Ltd.
Saigon-Mekong Fishery Co., Ltd. (SAMEFICO)
Southern Fishery Industries Company, Ltd. (also known as South Vina)
Thien Ma Seafood Co., Ltd. (also known as THIMACO)
Thuan An Production Trading & Services Co., Ltd. (also known as TAFISHCO)
Thuan Hung Co., Ltd. (also known as THUFICO)
Vinh Hoan Corporation
Vinh Hoan Company, Ltd.
Vinh Quang Fisheries Corporation
Thailand: Polyethylene Retail Carrier Bags, A-549-821 | 8/1/10-7/31/11
Apple Film Company, Ltd.
First Pack Co. Ltd.
Hi-Pack Company, Ltd.
K International Packaging Co., Ltd.
Landblue (Thailand) Co., Ltd.
Multibax Public Co., Ltd.
Praise Home Industry, Co. Ltd.
Siam Flexible Industries Co., Ltd.
Sombatchai Plastic Industry, Ltd.
Thai Jirun Co., Ltd.
Trinity Pac Co. Ltd.
T.S.T. Plaspack Co., Ltd.
U. Yong Industry Co., Ltd.
The People's Republic of China: Certain Steel Nails,⁵ A-570-909 | 8/1/10-7/31/11
ABF Freight System, Inc.
Agritech Products Ltd.
Aihua Holding Group Co., Ltd.
Aironware (Shanghai) Co., Ltd.
Anping County Anning Wire Mesh Co.
Anping Fuhua Wire Mesh Making Co.
APM Global Logistics O/B Hasbro Toy
Beijing Daruixing Global Trading Co., Ltd.
Beijing Daruixing Nail Products Co., Ltd.
Beijing Hong Sheng Metal Products Co., Ltd.
Beijing Hongsheng Metal Products Co., Ltd.
Beijing Jinheuang Co., Ltd.
Beijing Kang Jie Kong Cargo Agent
Beijing KJK Intl Cargo Agent Co., Ltd.
Beijing Long Time Rich Tech Develop
Beijing Tri-Metal Co., Ltd.
Beijing Yonghongsheng Metal Products Co., Ltd.
Besco Machinery Industry (Zhejiang) Co., Ltd.
Brighten International, Inc.
Cana (Tianjin) Hardware Ind., Co., Ltd.
Century Shenzhen Xiamen Branch
Certified Products International Inc.
Changzhou MC I/E Co., Ltd.
Changzhou Quyuan Machinery Co., Ltd.
Changzhou Refine Flag & Crafts Co., Ltd.
Chao Jinqiao Welding Material Co., Ltd.
Chaohu Bridge Nail Industry Co., Ltd.
Chaohu Jinqiao Welding Material Co.
Chewink Corp.
Chiieh Yung Metal Ind. Corp.
China Container Line (Shanghai) Ltd.
China Silk Trading & Logistics Co., Ltd.
China Staple Enterprise (Tianjin) Co., Ltd.
Chongqing Hybest Nailery Co., Ltd.
Chongqing Hybest Tools Group Co., Ltd.
Cintee Steel Products Co., Ltd.
Cyber Express Corporation
CYM (Nanjing) Ningquan Nail Manufacture Co., Ltd. (a.k.a. CYM (Nanjing) Nail Manufacture Co., Ltd.)
Dagang Zhitong Metal Products Co., Ltd.
Damco Shenzhen
Daxing Niantan Industrial
Delix International Co., Ltd.
Dezhou Hualude Hardware Products Co., Ltd.
Dingzhou Derunda Material and Trade Co., Ltd.
Dingzhou Ruili Nail Production Co., Ltd.
Dong'e Fuqiang Metal Products Co., Ltd.
Dongguan Five Stone Machinery Products Trading Co., Ltd.
ECO System Corporation
Elite International Logistics Co.
Elite Master International Ltd.
England Rich Group (China) Ltd.
Entech Manufacturing (Shenzhen) Ltd.
Expeditors China Tianjin Branch
Faithful Engineering Products Co., Ltd.
Fedex International Freight Forward Agency Services (Shanghai) Co., Ltd.
Feiyin Co., Ltd.
Fension International Trade Co., Ltd.
Foreign Economic Relations & Trade
Fujiansmartness Imp. & Exp. Co., Ltd.
Fuzhou Builddirect Ltd.
Goal Well Stone Co., Ltd.
Gold Union Group Ltd.
Goldever International Logistics Co.
Goldmax United Ltd.
Grace News Inc.
Guangdong Foreign Trade Import & Export Corporation
Guangzhou Qiwei Imports and Exports Co., Ltd.
Guoxin Group Wang Shun I/E Co., Ltd.
GWP Industries (Tianjin) Co., Ltd.
Haierce Industry Co., Ltd.
Haixing Hongda Hardware Production Co., Ltd.
Haixing Linhai Hardware Products Factory
Haiyan Fefine Import and Export Co.
Handuk Industrial Co., Ltd.
Hangzhou Kelong Electrical Appliance & Tools Co. Ltd.
Hangzhou New Line Co., Ltd.
Hangzhou Zhongding Imp. & Exp. Co., Ltd.
Hebei Cangzhou New Century Foreign Trade Co., Ltd.
Hebei Development Metals Co., Ltd.
Hebei Jinsidun (JSD) Co., Ltd.
Hebei Machinery Import and Export Co., Ltd.
Hebei Minmetals Co., Ltd.
Hebei My Foreign Trade Co., Ltd.
Hebei Super Star Pneumatic Nails Co., Ltd.
Henan Pengu Hardware Manufacturing Co., Ltd.
Hengshui Mingyao Hardware & Mesh Products Co., Ltd.
Heretops (Hong Kong) International Ltd.
Hilti (China) Limited
HK Villatao Sourcing Co., Ltd.
Hong Kong Hailiang Metal Trading Ltd.
Hong Kong Yu Xi Co., Ltd.
Huadu Jin Chuan Manufactory Co., Ltd.
Huanghua Honly Industry Corp.
Huanghua Huarong Hardware Products Co., Ltd.
Huanghua Jinhai Hardware Products Co., Ltd.
Huanghua Jinhai Metal Products Co., Ltd.
Huanghua Shenghua Hardware Manufactory Factory
Huanghua Xinda Nail Production Co., Ltd.
Huanghua Xionghua Hardware Products Co., Ltd.
Huanghua Yufutai Hardware Products Co., Ltd.
Hubei Boshilong Technology Co., Ltd.
Huiyuan Int'l Commerce Exhibition Co., Ltd.
Jiashan Superpower Tools Co., Ltd.
Jiaxing Yaoliang Import & Export Co., Ltd.
Jinding Metal Products Ltd.
Jinhua Kaixin Imp & Exp Ltd.
Jining Huarong Hardware Products Co., Ltd.
Jisco Corporation
Joto Enterprise Co., Ltd.
Karuis Custom Metal Parts Mfg. Ltd.
Kasy Logistics (Tianjin) Co., Ltd.
K.E. Kingstone
Koram Panagene Co., Ltd.
Kuehne & Nagel Ltd.
Kum Kang Trading Co., Ltd.
Kyung Dong Corp.
Le Group Industries Corp. Ltd.
Leang Wey Int. Business Co., Ltd.
Liang's Industrial Corp.
Lijiang Liantai Trading Co., Ltd.
Linhai Chicheng Arts & Crafts Co., Ltd.
Lins Corp.
Linyi Flying Arrow Imp & Exp Co., Ltd.
Maanshan Cintee Steel Products Co., Ltd.
Maanshan Leader Metal Products Co., Ltd.
Maanshan Longer Nail Product Co., Ltd.
Manufacutersinchina (HK) Company Ltd.
Marsh Trading Ltd.
Master International Co., Ltd.
Mingguang Abundant Hardware Products Co., Ltd.
Montana (Taiwan) Int'l Co., Ltd.
Nanjing Dayu Pneumatic Gun Nails Co., Ltd.
Nanjing Yuechang Hardware Co., Ltd.
Nantong Corporation for Internation
Ningbo Bolun Electric Co., Ltd.
Ningbo Dollar King Industrial Co., Ltd.
Ningbo Endless Energy Electronic Co., Ltd.
Ningbo Fension International Trade Center
Ningbo Fortune Garden Tools and Equipment Inc.
Ningbo Haixin Railroad Material Co.
Ningbo Huamao Imp & Exp. Co., Ltd.
Ningbo Hyderon Hardware Co., Ltd.
Ningbo JF Tools Industrial Co., Ltd.
Ningbo KCN Electric Co., Ltd.
Ningbo Meizhi Tools Co., Ltd.
Ningbo Ordam Import & Export Co., Ltd.
OEC Logistics (Qingdao) Co. Ltd.
Omega Products International
OOCL Logistics O B OF Winston Marketing Group
Orisun Electronics HK Co., Ltd.
Pacole International Ltd.
Panagene Inc.
Pavilion Investment Ltd.
Perfect Seller Co., Ltd.
Prominence Cargo Service, Inc.
PT Enterprise Inc.
Qianshan Huafeng Trading Co., Ltd.
Qidong Liang Chyuan Metal Industry Co., Ltd.
Qingdao Bestworld Industry Trading
Qingdao D&L Group Ltd.
Qingdao Denarius Manufacture Co. Limited
Qingdao Golden Sunshine ELE-EAQ Co., Ltd.
Qingdao International Fastening Systems Inc.
Qingdao Jisco Co., Ltd.
Qingdao Koram Steel Co., Ltd.
Qingdao Lutai Industrial Products Manufacturing Co., Ltd.
Qingdao Meijia Metal Products Co.
Qingdao Rohuida International Trading Co., Ltd.
Qingdao Sino-Sun International Trading Company Limited
Qingdao Super United Metals & Wood Prods. Co. Ltd.
Qingdao Tiger Hardware Co., Ltd.
Qingfu Metal Craft Manufacturing Ltd.
Qinghai Wutong (Group) Industry Co.
Qingyuan County Hongyi Hardware Products Factory
Qingyun Hongyi Hardware Factory
Qinhuangdao Kaizheng Industry and Trade Co. Ltd.
Q-Yield Outdoor Great Ltd.
Region International Co., Ltd.
Richard Hung Ent. Co. Ltd.
River Display Ltd.
Rizhao Changxing Nail-Making Co., Ltd.
Rizhao Handuk Fasteners Co., Ltd.
Rizhao Qingdong Electric Appliance Co., Ltd.
Romp (Tianjin) Hardware Co., Ltd.
Saikelong Electric Appliances (Suzhou) Co., Ltd.
Se Jung (China) Shipping Co., Ltd.
SDC International Australia Pty., Ltd.
Senco Products, Inc.
Senco-Xingya Metal Products (Taicang) Co., Ltd.
Shandex Co., Ltd.
Shandex Industrial Inc.
Shandong Dinglong Import & Export Co., Ltd.
Shandong Minmetals Co., Ltd.
Shandong Oriental Cherry Hardware Group Co., Ltd.
Shandong Oriental Cherry Hardware Import and Export Co., Ltd.
Shanghai Chengkai Hardware Product Co., Ltd.
Shanghai Colour Nail Co., Ltd.
Shanghai Curvet Hardware Products Co., Ltd.
Shanghai Ding Ying Printing & Dyeing CLO
Shanghai GBR Group International Co.
Shanghai Holiday Import & Export Co., Ltd.
Shanghai Jade Shuttle Hardware Tools Co., Ltd.
Shanghai Jian Jie International TRA
Shanghai March Import & Export Company Ltd.
Shanghai Mizhu Imp & Exp Corporation
Shanghai Nanhui Jinjun Hardware Factory
Shanghai Pioneer Speakers Co., Ltd.
Shanghai Pudong Int'l Transporation Booking Dep't
Shanghai Seti Enterprise International Co., Ltd.
Shanghai Shengxiang Hardware Co.
Shanghai Suyu Railway Fastener Co.
Shanghai Tengyu Hardware Tools Co., Ltd.
Shanghai Tengyu Hardware Products Co., Ltd.
Shanghai Tymex International Trade Co., Ltd.
Shanghai Yueda Nails Industry Co., Ltd.
Shanghai Yuet Commercial Consulting Co., Ltd.
Shanxi Hairui Trade Co., Ltd.
Shanxi Pioneer Hardware Industrial Co., Ltd.
Shanxi Tianli Enterprise Co., Ltd.
Shanxi Tianli Industries Co., Ltd.
Shanxi Yuci Broad Wire Products Co., Ltd.
Shanxi Yuci Wire Material Factory
Shaoguang International Trade Co.
Shaoxing Chengye Metal Producting Co., Ltd.
Shenyang Yulin International
Shenzhen Changxinghongye Imp.
Shenzhen Erisson Technology Co., Ltd.
Shenzhen Meiyuda Trade Co., Ltd.
Shenzhen Pacific-Net Logistics Inc.
Shenzhen Shangqi Imports-Exports TR
Shijiazhuang Anao Imp & Export Co. Ltd.
Shijiazhuang Glory Way Trading Co.
Shijiazhuang Fangyu Import & Export Corp.
Shijiazhuang Fitex Trading Co., Ltd.
Shijiazhuang Shuangjian Tools Co., Ltd.
Shitong Int'l Holding Limited
Shouguang Meiqing Nail Industry Co., Ltd.
Sinochem Tianjin Imp & Exp Shenzhen Corp.
Sirius Global Logistics Co., Ltd.
S-mart (Tianjin) Technology Development Co., Ltd.
Sunfield Enterprise Corporation
Sunlife Enterprises (Yangjiang) Ltd.
Suntec Industries Co., Ltd.
Sunworld International Logistics
Superior International Australia Pty Ltd.
Suzhou Guoxin Group Wangshun I/E Co. Imp. Exp. Co., Ltd.
Suzhou Xingya Nail Co., Ltd.
Suzhou Yaotian Metal Products Co., Ltd.
Stanley Black & Decker, Inc.
The Stanley Works (Langfang) Fastening Systems Co., Ltd.
Stanley Fastening Systems LP
Shandex Industrial Inc.
Telex Hong Kong Industry Co., Ltd.
The Everest Corp.
Thermwell Products
Tian Jin Sundy Co., Ltd. (a/k/a Tianjin Sunny Co., Ltd.)
Tianjin Baisheng Metal Product Co., Ltd.
Tianjin Bosai Hardware Tools Co., Ltd.
Tianjin Certified Products Inc.
Tianjin Chengyi International Trading Co., Ltd.
Tianjin Chentai International Trading Co., Ltd.
Tianjin City Dagang Area Jinding Metal Products Factory
Tianjin City Daman Port Area Jinding Metal Products Factory
Tianjin City Jinchi Metal Products Co., Ltd.
Tianjin Dagang Dongfu Metallic Products Co., Ltd.
Tianjin Dagang Hewang Nail Factory
Tianjin Dagang Hewang Nails Manufacture Plant
Tianjin Dagang Huasheng Nailery Co., Ltd.
Tianjin Dagang Jingang Nail Factory
Tianjin Dagang Jingang Nails Manufacture Plant
Tianjin Dagang Linda Metallic Products Co., Ltd.
Tianjin Dagang Longhua Metal Products Plant
Tianjin Dagang Shenda Metal Products Co., Ltd.
Tianjin Dagang Yate Nail Co., Ltd.
Tianjin Dery Import and Export Co., Ltd.
Tianjin Everwin Metal Products Co, Ltd.
Tianjin Foreign Trade (Group) Textile & Garment Co., Ltd.
Tianjin Hewang Nail Making Factory
Tianjin Huachang Metal Products Co., Ltd.
Tianjin Huapeng Metal Company
Tianjin Huasheng Nails Production Co., Ltd.
Tianjin Jetcom Manufacturing Co, Ltd.
Tianjin Jieli Hengyuan Metallic Products Co., Ltd.
Tianjin Jietong Hardware Products Co., Ltd.
Tianjin Jietong Metal Products Co., Ltd.
Tianjin Jin Gang Metal Products Co., Ltd.
Tianjin Jinchi Metal Products Co., Ltd.
Tianjin Jinghai County Hongli Industry & Business Co., Ltd.
Tianjin Jinjin Pharmaceutical Factory Co., Ltd.
Tianjin Jishili Hardware Co., Ltd.
Tianjin JLHY Metal Products Co., Ltd.
Tianjin Jurum Metal Products Co., Ltd.
Tianjin Jurun Metal Products Co., Ltd.
Tianjin Kunxin Hardware Co., Ltd.
Tianjin Kunxin Metal Products Co., Ltd.
Tianjin Lianda Group Co., Ltd.
Tianjin Linda Metal Company
Tianjin Longxing (Group) Huanyu Imp. & Exp. Co., Ltd.
Tianjin Master Fastener Co., Ltd. (a/k/a Master Fastener Co., Ltd.)
Tianjin Mei Jia Hua Trade Co., Ltd.
Tianjin Metals and Minerals
Tianjin Port Free Trade Zone Xiangtong Intl. Industry & Trade Corp.
Tianjin Products & Energy Resources Dev. Co., Ltd.
Tianjin Qichuan Metal Products Co., Ltd.
Tianjin Ruiji Metal Products Co., Ltd.
Tianjin Senbohengtong International
Tianjin Senmiao Import and Export Co., Ltd.
Tianjin Shenyuan Steel Producting Group Co., Ltd.
Tianjin Shishun Metal Product Co., Ltd.
Tianjin Shishun Metallic Products Co., Ltd.
Tianjin Universal Machinery Imp & Exp Corporation
Tianjin Xiantong Fucheng Gun Nail Manufacture Co., Ltd.
Tianjin Xiantong Juxiang Metal MFG Co., Ltd.
Tianjin Xiantong Material & Trade Co., Ltd.
Tianjin Xinyuansheng Metal Products Co., Ltd.
Tianjin Yihao Metallic Products Co., Ltd.
Tianjin Yongchang Metal Product Co., Ltd.
Tianjin Yongxu Metal Products Co., Ltd.
Tianjin Yongye Furniture
Tianjin Yongyi Standard Parts Production Co., Ltd.
Tianjin Zhong Jian Wanli Stone Co., Ltd.
Tianjin Zhonglian Metals Ware Co., Ltd.
Tianjin Zhongsheng Garment Co., Ltd.
Tianwoo Logistics Developing Co., Ltd.
Topocean Consolidation Service (CHA) Ltd.
Tradex Group, Inc.
Traser Mexicana, S.A. De C.V.
Treasure Way International Dev. Ltd.
True Value Company (HK) Ltd.
Unicatch Industrial Co., Ltd.
Unigain Trading Co., Ltd.
Union Enterprise (Kunshan) Co., Ltd. (a.k.a. Union Enterprise Co., Ltd.)
Vinin Industries Limited
Wintime Import & Export Corporation Limited of Zhongshan
Wenzhou KLF Medical Plastics Co., Lt.
Wenzhou Ouxin Foreign Trade Co., Ltd.
Wenzhou Yuwei Foreign Trade Co., Ltd.
Winsmart International Shipping Ltd. O/B Zhaoqing Harvest Nails Co., Ltd.
Worldwide Logistics Co., Ltd. (Tianjin Branch)
Wuhan Xinxin Native Produce & Animal By-Products Mfg. Co. Ltd.
Wuhu Sheng Zhi Industrial Co., Ltd.
Wuhu Shijie Hardware Co., Ltd.
Wuhu Xin Lan De Industrial Co., Ltd.
Wuqiao County Huifeng Hardware Products Factory
Wuqiao County Xinchuang Hardware Products Factory
Wuqiao Huifeng Hardware Production Co., Ltd.
Wuxi Baolin Nail Enterprises
Wuxi Baolin Nail-Making Machinery Co., Ltd.
Wuxi Chengye Metal Products Co., Ltd.
Wuxi Colour Nail Co., Ltd.
Wuxi Qiangye Metalwork Production Co., Ltd.
Wuxi Jinde Assets Management Co., Ltd.
Wuxi Moresky Developing Co., Ltd.
Xiamen New Kunlun Trade Co., Ltd.
Xi'an Metals & Minerals Import and Export Co., Ltd.
Xi'an Steel
XL Metal Works Co., Ltd.
XM International, Inc.
Xuzhou CIP International Group Co., Ltd.
Yeswin Corporation
Yitian Nanjing Hardware Co., Ltd.
Yiwu Dongshun Toys Manufacture
Yiwu Excellent Import & Export Co., Ltd.
Yiwu Jiehang Import & Export Co., Ltd.
Yiwu Qiaoli Import & Export Co., Ltd.
Yiwu Richway Imp & Exp Co., Ltd.
Yiwu Zhongai Toys Co., Ltd.
Yongcheng Foreign Trade Corp.
Yu Chi Hardware Co., Ltd.
Yue Sang Plastic Factory
Yuhuan Yazheng Importing
Zhangjiagang Lianfeng Metals Products Co., Ltd.
Zhangjiagang Longxiang Packing Materials Co., Ltd.
Zhaoqing Harvest Nails Co., Ltd.
Zhejiang Gem-Chun Hardware Accessory Co., Ltd.
Zhejiang Hungyan Xingzhou Industria
Zhejiang Jinhua Nail Factory
Zhejiang Minmetals Sanhe Imp & Exp Co.
Zhejiang Qifeng Hardware Make Co., Ltd.
Zhejiang Taizhou Eagle Machinery Co.
Zhejiang Yiwu Huishun Import/Export Co., Ltd.
Zhongshan Junlong Nail Manufactures Co., Ltd.
ZJG Lianfeng Metals Product Ltd.
The People's Republic of China: Floor-Standing Metal-Top Ironing Tables,⁶ A-570-888 | 8/1/10-7/31/11
Foshan Shunde Yongjian Housewares & Hardware Co., Ltd.
The People's Republic of China: Polyethylene Retail Carrier Bags,⁷ A-570-886 | 8/1/10-7/31/11
Dongguan Nozawa Plastics Products Co., Ltd. and United Power Packaging, Ltd. (collectively Nozawa)
Countervailing Duty Proceedings
Republic of Korea: Corrosion-Resistant Carbon Steel Flat Products, C-580-818 | 1/1/10-12/31/10
Dongbu Steel Co., Ltd.
Hyandai HYSCO
Pohang Iron & Steel Co., Ltd./Pohang Coated Steel Co., Ltd. (POSCO)
Suspension Agreements
None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ The company listed was inadvertently omitted from the initiation notice that published on August 26, 2011 (76 FR 53404).

⁴ If one of the above named companies does not qualify for a separate rate, all other exporters of frozen fish fillets from the Socialist Republic of Vietnam who have not qualified for a separate rate are deemed to be covered by this review as part of the single Vietnam entity of which the named exporters are a part.

⁵ If one of the above named companies does not qualify for a separate rate, all other exporters of Certain Steel Nails from the People's Republic of China (“PRC”) who have not qualified for a separate rate are deemed to be covered by this review as part of the single PRC entity of which the named exporters are a part.

⁶ If the above named company does not qualify for a separate rate, all other exporters of Floor-Standing Metal-Top Ironing Tables from the PRC who have not qualified for a separate rate are deemed to be covered by this review as part of the single PRC entity of which the named exporters are a part.

⁷ If the above named company does not qualify for a separate rate, all other exporters of Polyethylene Retail Carrier Bags from the PRC who have not qualified for a separate rate are deemed to be covered by this review as part of the single PRC entity of which the named exporters are a part.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Tariff Act of 1930, as amended (19 U.S.C. 1675(a)) and 19 CFR 351.221(c)(1)(i).

Dated: September 26, 2011.
Christian Marsh,
Deputy Assistant Secretary for Antidumping and Countervailing Duty Operations.

[FR Doc. 2011-25432 Filed 9-30-11; 8:45 am]

BILLING CODE 3510-DS-P